DEPARTMENT OF TRANSPORTATION

National Highway Traffic Safety Administration

[Docket No. NHTSA-2013-0134; Notice 1]

General Motors, LLC, Receipt of Petition for Decision of Inconsequential Noncompliance

AGENCY: National Highway Traffic Safety Administration (NHTSA), Department of Transportation (DOT).

ACTION: Receipt of petition.

SUMMARY: General Motors, LLC, (GM) has determined that certain model year 2014 Chevrolet Silverado and GMC Sierra trucks manufactured between January 29, 2013 and October 28, 2013, do not fully comply with paragraph S5.3.1(e) of Federal Motor Vehicle Safety Standard (FMVSS) No. 101, Controls and Displays, and paragraph S3.1.4.1 of FMVSS No. 102, Transmission Shift Position Sequence, Starter Interlock, and Transmission Braking Effect. GM has filed an appropriate report dated October 31, 2013, pursuant to 49 CFR part 573, Defect and Noncompliance Responsibility and Reports.

DATES: The closing date for comments on the petition is March 26, 2014.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. GM's Petition: Pursuant to 49 U.S.C. 30118(d) and 30120(h) (see implementing rule at 49 CFR part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

II. Vehicles Involved: Affected are approximately 200,921 model year 2014 Chevrolet Silverado and GMC Sierra trucks manufactured between January 29, 2013 and October 28, 2013.

III. Noncompliance: GM explains that the noncompliance is that under certain circumstances when an owner uses the steering wheel controls to browse and select songs to play from an external device (i.e., MP3 player) that is plugged into one of the vehicle's USB ports, the instrument cluster may reset. When the instrument cluster resets the analog gauges and identifications, the PRNDM [shift position] indicator, and the cruise control telltale will briefly turn off. In addition, some of the instrument cluster telltales may also illuminate briefly without the condition the telltale is designed to indicate being present.

IV. Rule Text: Paragraph S5.3.1(e) of FMVSS No. 101 requires in pertinent part:

S5.3.1(e) Timing of illumination

(e) A Telltale must not emit light except when identifying the malfunction or vehicle condition it is designed to indicate, or during a bulb check . . .

Paragraph S3.1.4.1 of FMVSS No. 102 requires in pertinent part:

S5.3.1(e) Except as specified in S3.1.4.1 if the transmission shift position sequence includes a park position, identification of shift positions, including the positions in relation to each other and the position selected, shall be displayed in view of the driver whenever any of the following conditions exist . . .

V. Summary of GM's Analyses: GM stated its belief that the subject noncompliance is inconsequential to motor vehicle safety for the following reasons:

A. The condition is extremely unlikely to occur.

Before the condition can occur, the driver must operate a media device inserted into one of the vehicle's USB ports in a very specific way, while other associated conditions also occur as follows:

1. The driver must insert a media device, such as a jump drive or MP3 player, into one of the USB ports to access songs on the media device. The songs on that device will start playing without further driver intervention.

2. To select a particular song, either the center cluster controls or the steering wheel controls may be used. The condition will not occur if the center cluster controls are used, but if the redundant steering wheel controls are used to select a song, the condition may occur if the following series of events also occurs:

a. The driver searches for a particular song by depressing the left arrow on the right spoke of the steering wheel;

b. then selects “audio” using the steering wheel controls;

c. then selects “browse” using the steering wheel controls;

d. then scrolls to a particular song using the steering wheel controls; and

e. then selects the song to play. At this point, operation remains normal.

f. If the driver selects “browse” using the steering wheel controls to select a second song, the subject condition may occur, but only if the total information in titles of the buffered songs exceeds 2,000 bytes. (Note: Fifteen songs are uploaded at a time to the buffer).

The combination of the specific series of events noted above, together with the [total] information in the buffer exceeding 2000 bytes, is very unlikely.

GM is aware of only 2 incidents of the subject condition occurring. These incidents were isolated to the test vehicle fleet (589 vehicles), which has accrued over 7 million total miles.

GM checked all warranty claims on the subject vehicles and did not find any complaints related to the subject condition. The subject vehicles in the field are likely to have accrued over 106 million miles with no field reports of the noncompliant condition.

GM is not aware of any complaints to NHTSA about this condition.

B. The condition is short-lived.

The disruption of the PRNDM and the activation of the telltales as a result of this condition are very brief. In the unlikely event the subject condition were to occur and the instrument cluster resets, the gear [shift position] display extinguishes for one and one half seconds and a telltale bulb check is triggered, which persists for approximately five seconds. This momentary condition would be a clear indication to the driver that service may be required.

GM is unaware of any previous recall for a short-lived activation of the telltales. GM is also unaware of any previous recall for a short-live disruption of the gear selector [display].

In addition, GM referred to a NHTSA response to a letter from Ford Motor Company dated May 23, 1979, in which GM believes that NHTSA acknowledged that a short-lived inability to view telltales does not necessarily warrant manufacturers correcting the condition.

C. The condition has little effect on the normal operation of the vehicle.

While the operation of the instrument panel is briefly affected by the underlying condition, none of the other vehicle operations are affected. Any underlying messages remain in place and will continue to be displayed after the instrument panel resets. Other operations, like cruise control, are unaffected by the subject condition. Only the displays on the instrument panel are briefly affected by the condition.

If the condition were to occur it is unlikely the brief disruption of the PRNDM will affect the driver. The condition can only be triggered when the driver is searching for a song with the steering wheel controls, which are located on the right spoke of the steering wheel. If the driver is in the process of searching for a song, it is unlikely the driver will shift the transmission for the one and one half seconds the PRNDM is disrupted, since the driver would also use his right hand to shift.

D. NHTSA has previously granted petitions for inconsequential noncompliance that GM believes can be applied to a decision on its petition. Refer to GM's petition for a complete discussion of its reasoning.

GM has additionally informed NHTSA that it has corrected the noncompliance so that all future production of these vehicles will comply with FMVSS No. 110 and FMVSS No. 120.

In summation, GM believes that the described noncompliance of the subject vehicles is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject noncompliant vehicles that GM no longer controlled at the time it determined that the noncompliance existed. However, any decision on this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8)

Claude H. Harris,
Director, Office of Vehicle Safety Compliance.

[FR Doc. 2014-03896 Filed 2-21-14; 8:45 am]

BILLING CODE 4910-59-P